DEPARTMENT OF THE INTERIOR

National Park Service

National Register of Historic Places; Notification of Pending Nominations and Related Actions

Nominations for the following properties being considered for listing or related actions in the National Register were received by the National Park Service before April 18, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by May 19, 2009.

J. Paul Loether,
Chief, National Register of Historic Places/National Historic Landmarks Program.

ARKANSAS

Calhoun County

Hampton Cemetery, S. of the jct of US 278 W. and 1st St., Hampton, 09000340

Faulkner County

Oak Grove Cemetery Historic Section, E. Bruce St., approx. .3 mi. E. of the jct of Harkrider St. and Bruce St., Conway, 09000341

CONNECTICUT

Fairfield County

Wall Street Historic District, Roughly bounded by Commerce, Knight, and Wall Sts., W. and Mott Aves., Norwalk, 09000342

Hartford County

South Glastonbury Historic District Boundary Increase, 999-1417 and 1032-1420 Main St.; 6,7 Chestnut Hill Rd., Glastonbury, 09000343

FLORIDA

Duval County

Cummer Gardens, 829 Riverside Ave., Jacksonville, 09000345

Lake County

Witherspoon Lodge No. 111 Free and Accepted Masons (F&AM), (Mount Dora, FL) 1410 N. Clayton St., Mount Dora, 09000346

ILLINOIS

Cook County

B.F. Goodrich Company Showroom, (Motor Row, Chicago, Illinois MPS) 1925 S. Michigan Ave., Chicago, 09000347

KANSAS

Crawford County

S-W Supply Company, 215 E. Prairie, Girard, 09000348

State Bank of Girard, 105 E. Prairie, Girard, 09000349

Douglas County

Ecumenical Christian Ministries Building, 1204 Oread Ave., Lawrence, 09000350

Jackson County

Holton Bath House and Swimming Pool, (New Deal—Era Resources of Kansas MPS) 711 Nebraska Ave., Holton, 09000351

Sedgwick County

Old Mission Mausoleum, 3414 E. 21st St., Wichita, 09000352

Smyser House, (Residential Resources of Wichita, Sedgwick County, Kansas 1870-1957) 931 Buffum Ave., Wichita, 09000353

Wabaunsee County

Alma Downtown Historic District, Missouri St., 2nd to 5th, Alma, 09000354

MASSACHUSETTS

Plymouth County

WPA Field House and Pump Station, 7-19 Henry Turner Bailey Rd., Scituate, 09000355

MISSISSIPPI

Sunflower County

Indianola Historic District, Roughly bounded by Percy St. on the N., Front to Adair on the W. to Roosevelt, Roosevelt E. to Front Extended and N., Indianola, 09000356

OKLAHOMA

Ottawa County

Miami Downtown Historic District, Roughly 100 block of N. Main, 000 block of S. Main, 000 blocks of Central Ave. and 000 block of SE. A St., Miami, 09000357

Tulsa County

Atlas Life Building, 415 S. Boston Ave., Tulsa, 09000358

OREGON

Benton County

Willamette Community and Grange Hall, 27555 Greenberry Rd., Corvallis, 09000359

Washington County

Painter's Woods Historic District, Centered on 15th Ave. and Birch Sts., including portions of 14th, 13th, 12th Aves., Cedar and Douglas Sts., Forest Grove, 09000360

PUERTO RICO

Caguas Municipality

Puente No. 6, (Historic Bridges of Puerto Rico MPS) SR 798, Km. 1.0, Rio Canas Ward, Caguas, 09000361

RHODE ISLAND

Providence County

Blackstone Boulevard-Cole Avenue-Grotto Avenue Historic District, Along Blackstone Blvd., Cole Ave., Grotto Ave., Providence, 09000363

SOUTH CAROLINA

Calhoun County

Lindsay Cemetery, Lindsay Cemetery Rd., Due West, 09000364

Pickens County

Structural Science Building, (Clemson University MPS) Clemson University, Clemson, 09000365

VIRGINIA

Loudoun County

Round Hill Historic District, Area within the Round Hill town limits that is bounded roughly by VA 7 to the S., Locust St. to the W., Bridge on E, Round Hill, 09000366

WASHINGTON

Kitsap County

Coder-Coleman House, 904 Highland Ave., Bremerton, 09000367

WISCONSIN

Sheboygan County

BYRON (schooner) Shipwreck, (Great Lakes Shipwreck Sites of Wisconsin MPS) Address Restricted, Oostburg, 09000368

[FR Doc. E9-10167 Filed 5-1-09; 8:45 am]

BILLING CODE P